NUCLEAR REGULATORY COMMISSION

[Docket Nos. 50-254 and 50-265]

Exelon Generation Company, LLC; Quad Cities Nuclear Power Station, Units 1 and 2; Environmental Assessment and Finding of No Significant Impact

The U.S. Nuclear Regulatory Commission (NRC) is considering issuance of an amendment to Facility Operating Licenses Nos. DPR-29 and DPR-30, issued to Exelon Generation Company, LLC (the licensee), formerly Commonwealth Edison Company, for operation of the Quad Cities Nuclear Power Station, Units 1 and 2, (Quad Cities) located in Rock Island County, Illinois. Therefore, as required by 10 CFR 51.21, the NRC is issuing this environmental assessment and finding of no significant impact.

Environmental Assessment

Identification of the Proposed Action

The proposed action would, in part, add the Siemens Power Corporation RODEX2A methodology to the Quad Cities Technical Specification (TS) 6.5.6, “Core Operating Limits Report,” list of approved methodologies that may be used to determine core operating limits. The proposed action also adds a related condition to the Quad Cities licenses to limit the maximum rod average burnup to 60 gigawatt-days per metric ton of uranium (GWD/MTU). Adding the RODEX2A methodology to the TSs will permit the use of extended fuel burnup limits. RODEX2A supports maximum rod average burnups to 62 GWD/MTU and uranium-235 (U-235) enrichments up to 5 percent by weight. However, the license condition will limit burnup to 60 GWD/MTU until the completion of an NRC Environmental Assessment supporting increased limits.

The proposed action is in accordance with the licensee's application for amendment dated September 29, 2000, as supplemented by letters dated March 1, 2001, August 13, and August 27, 2001.

The Need for the Proposed Action

The proposed action is needed in order for the licensee to have the flexibility to use fuel with increased burnup. The changes in operating parameters and limits will allow longer operating cycles and result in fewer fuel assemblies being needed.

Environmental Impacts of the Proposed Action

The NRC has completed its evaluation of the proposed action and concludes that, although the extended burnup may slightly change the mix of radionuclides that might be released in the event of an accident, there are no significant adverse environmental impacts associated with the proposed action.

The staff published “Extended Burnup Fuel Use in Commercial LWR's; Environmental Assessment and Finding of No Significant Impact” on February 29, 1988 (53 FR 6040). This generic environmental assessment of extended fuel burnup in light water reactors found that “no significant adverse effects will be generated by increasing the present batch-average burnup level of 33 GWD/MTU to 50 GWD/MTU or above as long as the maximum rod average burnup level of any fuel rod is no greater than 60 GWD/MTU.” In addition, the environmental impacts of transportation resulting from the use of higher enrichment fuel and extended irradiation were published and discussed in the staff assessment entitled, “NRC Assessment of the Environmental Effects of Transportation Resulting from Extended Fuel Enrichment and Irradiation,” dated July 7, 1988. That assessment was published in connection with an Environmental Assessment related to the Sheron Harris Nuclear Plant, Unit 1, which was published in the Federal Register on August 11, 1988 (53 FR 30355), as corrected on August 24, 1988 (53 FR 32322). In these assessments, collectively, the staff concluded that the environmental impacts summarized in Table S-3 of 10 CFR 51.51 and in Table S-4 of 10 CFR 51.52 for a burnup level of 33 GWD/MTU and enrichments up to 4 weight percent U-235 are conservative and bound the corresponding impacts for burnup levels up to 60 GWD/MTU and enrichments up to 5 weight percent U-235. These findings are applicable to the proposed action at Quad Cities which will limit burnup to 60 GWD/MTU and allow enrichments up to 5 weight percent U-235.

The proposed action will not significantly increase the probability or consequences of accidents, no significant changes are being made in the types of any effluents that may be released offsite, and there is no significant increase in occupational or public radiation exposure. Therefore, there are no significant radiological environmental impacts associated with the proposed action.

With regard to potential nonradiological environmental impacts, the proposed action does not have a potential to affect any historic sites. It does not affect nonradiological plant effluents and has no other environmental impact. Therefore, there are no significant nonradiological impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

This action does not involve the use of any different resources than those previously considered in the Final Environmental Statement for Quad Cities, dated September 1972.

Agencies and Persons Consulted

In accordance with its stated policy, on August 14, 2001, the staff consulted with the Illinois State official, Frank Niziolek of the Illinois Department of Nuclear Safety, regarding the environmental impact of the proposed action. The State official had no comments.

Finding of No Significant Impact

On the basis of the environmental assessment, the NRC concludes that the proposed action will not have a significant effect on the quality of the human environment. Accordingly, the Commission has determined not to prepare an environmental impact statement for the proposed action.

For further details with respect to the proposed action, see the licensee's letters dated September 29, 2000, as supplemented by letters dated March 1, 2001, August 13, and August 27, 2001. Documents may be examined, and/or copied for a fee, a the NRC's Public Document Room (PDR), located at One White Flint North, 11555 Rockville Pike (first floor), Rockville, Maryland. Publicly available records will be accessible electronically from the ADAMS Public Library component on the NRC Web site, http://www.nrc.gov (the Public Electronic Reading Room). If you do not have access to ADAMS or if there are problems in accessing the documents located in ADAMS, contact the NRC PDR Reference staff at 1-800-397-4209, or 301-415-4737, or by e-mail at pdr@nrc.gov.

Dated at Rockville, Maryland, this 11th day of September 2001.
For the Nuclear Regulatory Commission.
Anthony J. Mendiola,
Chief, Section 2, Project Directorate III, Division of Licensing Project Management, Office of Nuclear Reactor Regulation.

[FR Doc. 01-23335 Filed 9-18-01; 8:45 am]

BILLING CODE 7590-01-P